DEPARTMENT OF VETERANS AFFAIRS

[OMB Control No. 2900-0222]

Proposed Information Collection (Application for Standard Government Headstone or Marker for Installation in a Private or State Veterans' Cemetery) Activity: Withdrawal

AGENCY: Veterans Benefits Administration, Department of Veterans Affairs.

ACTION: Notice; withdrawal.

SUMMARY: The Department of Veterans Affairs (VA) published a notice in a Federal Register on September 19, 2013 (78 FR 57683), inviting the public to comment on a proposed information collection titled “Application for Standard Government Headstone or Marker for Installation in a Private or State Veterans' Cemetery, VA Form 40-1330.” This document withdrawals the Federal Register on September 19, 2013 (78 FR 57683). VA submitted this notice prematurely, will continue to develop it and will issue another notice in the near future.

DATES: This document withdrawals the Federal Register on September 19, 2013 (78 FR 57683).

FOR FURTHER INFORMATION CONTACT: Crystal Rennie, Enterprise Records Service (005R1B), Department of Veterans Affairs, 810 Vermont Avenue NW., Washington, DC 20420, at (202) 632-7492.

FR Doc. 2013-22770, published on September 19, 2013 (78 FR 57683) is withdrawn by this notice.

Dated: September 20, 2013.
Crystal Rennie,
VA Clearance Officer, U.S. Department of Veterans Affairs.

[FR Doc. 2013-23352 Filed 9-24-13; 8:45 am]

BILLING CODE 8320-01-P